DEPARTMENT OF THE INTERIOR

Office of the Secretary

National Commission on Indian Trust Administration and Reform

AGENCY: Office of the Secretary, Interior.

ACTION: Notice of meeting.

SUMMARY: The Office of the Secretary is announcing that the National Commission on Indian Trust Administration and Reform (the Commission) will hold its first meeting in Washington, DC. The purpose of the meeting is for the Commission to commence performance of the duties set forth in Secretarial Order No. 3292. This includes a thorough evaluation of the existing management and administration of the trust administration system to support a well-reasoned and factually-based recommendations for potential management and administration improvements.

DATES: The Commission's first meeting will begin at 8:30 a.m. on March 1, 2012, and end at 4 p.m. on March 2, 2012. Attendance is open to the public, but limited space is available. Members of the public who wish to attend should RSVP by February 24, 2012 to: trustcommission@ios.doi.gov.

ADDRESSES: The first meeting will be held at the Department of the Interior, 1849 C Street NW., Room 5160, Washington, DC 20240.

FOR FURTHER INFORMATION CONTACT: The Designated Federal Officer, Meghan Conklin, Associate Deputy Secretary, Office of the Secretary, 1849 C Street NW., Washington, DC 20240; or email to Meghan_Conklin@ios.doi.gov. Members of the public who wish to attend the meeting should RSVP to: trustcommission@ios.doi.gov by February 24, 2012.

SUPPLEMENTARY INFORMATION: As part of President Obama's commitment to fulfilling this nation's trust responsibilities to Native Americans, the Secretary of the Interior appointed members to serve on the National Commission on Indian Trust Administration and Reform established under Secretarial Order No. 3292, dated December 8, 2009. The Commission will play a key role in the Department's ongoing efforts to empower Indian nations and strengthen nation-to-nation relationships. The Secretary selected the members after a public solicitation for nominations and evaluated the candidates on the basis of their expertise and experience, including in government and trust, financial, asset and natural resource management. Members were selected in accordance with the Federal Advisory Committee Act and will serve without compensation.

The Commission will complete a comprehensive evaluation of the Department's management and administration of trust assets within a two year period and offer recommendations to the Secretary of the Interior of how to improve in the future. The Commission will:

(1) Conduct a comprehensive evaluation of the Department's management and administration of the trust administration system;

(2) Review the Department's provision of services to trust beneficiaries;

(3) Review input from the public, interested parties, and trust beneficiaries which should involve conducting a number of regional listening sessions;

(4) Consider the nature and scope of necessary audits of the Department's trust administration system;

(5) Recommend options to the Secretary to improve the Department's management and administration of the trust administration system based on information obtained from these Commission's activities, including whether any legislative or regulatory changes are necessary to permanently implement such improvements; and

(6) Consider the provisions of the American Indian Trust Fund Management Reform Act of 1994 providing for the termination of the Office of the Special Trustee for American Indians, and make recommendations to the Secretary regarding any such termination.

Meeting Details

At the first meeting, the Commission will be discussing its goals and procedures, developing a meeting schedule and work plan, and reviewing past trust reform and FACA committee efforts. A final agenda will be posted on www.doi.gov/cobell prior to the meeting. All meetings are open to the public; however, transportation, lodging, and meals are the responsibility of the participating public. Please note: any member of the public who wishes to attend must RSVP to trustcommision@ios.doi.gov by February 24, 2012, and bring valid Government identification (such as a driver's license) on the day of the meeting to obtain access to the building. Persons with a disability requiring special services, such as an interpreter for the hearing impaired, should contact Meghan Conklin at Meghan_Conklin@ios.doi.gov at least seven calendar days prior to the meeting.

Written comments may be sent to the Designated Federal Officer listed in the FOR FURTHER INFORMATION CONTACT section above.

Dated: January 27, 2012.
David J. Hayes,
Deputy Secretary.

[FR Doc. 2012-2401 Filed 2-2-12; 8:45 am]

BILLING CODE 4310-W7-P